FEDERAL COMMUNICATIONS COMMISSION

47 CFR Part 76

[MB Docket No. 05-311; FCC 06-180]

Implementation of Section 621(a)(1) of the Cable Communications Policy Act of 1984 as Amended by the Cable Television Consumer Protection and Competition Act of 1992

AGENCY: Federal Communications Commission.

ACTION: Final rule; announcement of effective date.

SUMMARY: This document announces the effective dates of rules published in the Federal Register on March 21, 2007. The rules relate to section 621 of the Communications Act of 1934, 47 U.S.C. 541, which prohibits franchising authorities from unreasonably refusing to award competitive franchises for the provision of cable services.

DATES: The final rule published on March 21, 2007 (72 FR 13189), adding 47 CFR 76.41, is effective August 6, 2007.

FOR FURTHER INFORMATION CONTACT: For additional information on this proceeding, contact Brendan Murray, Brendan.Murray@fcc.gov of the Media Bureau, Policy Division, (202) 418-1573.

SUPPLEMENTARY INFORMATION: In a Report and Order released on March 5, 2007, FCC 06-180, and published in the Federal Register on March 21, 2007, 72 FR 13189, the Federal Communications Commission adopted a new rule which contained information collection requirements subject to the Paperwork Reduction Act. The Report and Order stated that the rule changes requiring OMB approval would become effective immediately upon announcement in the Federal Register of OMB approval. On July 25, 2007, the Office of Management and Budget (OMB) approved the information collection requirements contained in 47 CFR 76.41. This information collection is assigned OMB Control No. 3060-1103. This publication satisfies the statement that the Commission would publish a document announcing the effective date of the rule changes requiring OMB approval.

Federal Communications Commission.
Marlene H. Dortch,
Secretary.

[FR Doc. E7-15138 Filed 8-3-07; 8:45 am]

BILLING CODE 6712-01-P